COMMISSION ON CIVIL RIGHTS

Sunshine Act Notice

AGENCY: United States Commission on Civil Rights.

ACTION: Notice of Business Meeting.

DATE AND TIME: Friday, July 12, 2013; 9:30 a.m. EST

PLACE: 1331 Pennsylvania Ave. NW., Suite 1150, Washington, DC 20425.

MEETING AGENDA

I. Approval of Agenda

II. Program Planning

• Approval of Final Draft of 2013 Statutory Enforcement Report

• Discussion re: Proposed Findings and Recommendations for the 2013 Statutory Enforcement Report

• Status Update on the Sex Trafficking: A Gender-Based Violation of Civil Rights Report

• Status Update on the Federal Civil Rights Engagement with Arab and Muslim American Communities Post 9/11 Report

III. Management and Operations

• Staff Director's report

• Chief of Regional Programs' report

IV. Approval of State Advisory Committee Appointment Slates

• Kentucky

• Maine

• New Hampshire

• New York

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: July 1, 2013.
TinaLouise Martin,
Director of Management/Human Resources.

[FR Doc. 2013-16196 Filed 7-2-13; 11:15 am]

BILLING CODE 6335-01-P